DEPARTMENT OF COMMERCE

National Oceanic and Atmospheric Administration

[RTID 0648-XB820]

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory entities will hold online and in-person public meetings.

DATES: The Pacific Council and its advisory entities will meet March 8-14, 2022 in a hybrid format with the Pacific Council and its salmon advisory bodies meeting in-person with live streaming and remote participation options. All other ancillary meetings will be held by online meeting only. The Pacific Council meeting will begin on Wednesday, March 9, 2022, at 8 a.m. Pacific Standard Time (PST), reconvening at 8 a.m. on Thursday, March 10 through Monday, March 14, 2022. All meetings are open to the public, except for a Closed Session held from 8 a.m. to 9 a.m., Wednesday, March 9, 2022 to address litigation and personnel matters. The Pacific Council will meet as late as necessary each day to complete its scheduled business.

ADDRESSES:

Meeting address: Meetings of the Pacific Council and its salmon advisory entities will be held at the Doubletree by Hilton San Jose, 2050 Gateway Place, San Jose, CA; telephone: (408) 453-4000. Other ancillary meetings will be held by online meeting only. All meetings of the Pacific Council and its advisory entities will include live streaming and remote participation options. Specific meeting information, including directions on joining the meeting, connecting to the live stream broadcast, and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2418 or (866) 806-7204 toll-free, or access the Pacific Council website, www.pcouncil.org, for the proposed agenda and meeting briefing materials.

SUPPLEMENTARY INFORMATION: The March 8-14, 2022 meeting of the Pacific Council will be streamed live on the internet. The broadcasts begin initially at 9 a.m. PST Wednesday, March 9, 2022, and through Monday, March 14, 2022. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.4, Proposed Council Meeting Agenda, and will be in the advance March 2022 briefing materials and posted on the Pacific Council website at www.pcouncil.org no later than Friday, February 18, 2022.

A. Call to Order

1. Opening Remarks

2. Roll Call

3. Executive Director's Report

4. Approve Agenda

B. Open Comment Period

1. Comments on Non-Agenda Items

C. Administrative Matters

1. Report of the Office of National Marine Sanctuaries

2. Marine Planning

3. Fiscal Matters

4. Legislative Matters

5. Approval of Council Meeting Record

6. Membership Appointments and Council Operating Procedures

7. Future Council Meeting Agenda and Workload Planning

D. Salmon Management

1. National Marine Fisheries Service Report

2. Review of 2021 Fisheries and Summary of 2022 Stock Forecasts

3. Identify Management Objectives and Preliminary Definition of 2022 Management Alternatives

4. Recommendations for 2022 Management Alternative Analysis

5. Further Direction for 2022 Management Alternatives

6. Further Direction for 2022 Management Alternatives

7. Adopt 2022 Management Alternatives for Public Review

8. Appoint Salmon Hearing Officers

E. Groundfish Management

1. National Marine Fisheries Service Report

2. Pacific Whiting Utilization—Final Action

3. Stock Definitions

4. Limited Entry Fixed Gear Catch Share Program Review

5. Fixed Gear Logbooks—Final Action

6. Workload and New Management Measure Priorities

7. Inseason Adjustments—Final Action

8. Initial Stock Assessment Plan and Terms of Reference

9. Update on 2023-2024 Harvest Specifications and Management Measures

F. Pacific Halibut Management

1. Annual International Pacific Halibut Commission Meeting Report

2. Incidental Catch Recommendations: Options for Salmon Troll and Final Action on Recommendations for Fixed Gear Sablefish Fisheries

G. Habitat Issues

1. Current Habitat Issues

H. Ecosystem Management

1. Fishery Ecosystem Plan (FEP) Five-Year Review—Final Action

2. 2021-22 California Current Ecosystem Status Report and Science Review Topics

3. Review of Fishery Ecosystem Plan Initiatives

I. Highly Migratory Species Management

1. National Marine Fisheries Service Report

2. International Management Activities

Advisory Body Agendas

Advisory body agendas will include discussions of relevant issues that are on the Pacific Council agenda for this meeting and may also include issues that may be relevant to future Council meetings. Proposed advisory body agendas for this meeting will be available on the Pacific Council website, www.pcouncil.org, no later than Friday, February 18, 2022.

Schedule of Ancillary Meetings

Day 1—Tuesday, March 8, 2022

Ecosystem Advisory Subpanel 8 a.m.

Ad Hoc Ecosystem Workgroup 8 a.m.

Groundfish Advisory Subpanel 8 a.m.

Groundfish Management Team 8 a.m.

Habitat Committee 8 a.m.

Salmon Advisory Subpanel 8 a.m.

Salmon Technical Team 8 a.m.

Scientific and Statistical Committee 8 a.m.

Enforcement Consultants 9 a.m.

Legislative Committee 10 a.m.

Budget Committee 1 p.m.

Day 2—Wednesday, March 9, 2022

California State Delegation 7 a.m.

Oregon State Delegation 7 a.m.

Washington State Delegation 7 a.m.

Ecosystem Advisory Subpanel 8 a.m.

Ad Hoc Ecosystem Workgroup 8 a.m.

Groundfish Advisory Subpanel 8 a.m.

Groundfish Management Team 8 a.m.

Habitat Committee 8 a.m.

Salmon Advisory Subpanel 8 a.m.

Salmon Technical Team 8 a.m.

Scientific and Statistical Committee 8 a.m.

Enforcement Consultants As Necessary

Day 3— Thursday, March 10, 2022

California State Delegation 7 a.m.

Oregon State Delegation 7 a.m.

Washington State Delegation 7 a.m.

Ecosystem Advisory Subpanel 8 a.m.

Groundfish Advisory Subpanel 8 a.m.

Groundfish Management Team 8 a.m.

Highly Migratory Species Advisory Subpanel 8 a.m.

Highly Migratory Species Management Team 8 a.m.

Salmon Advisory Subpanel 8 a.m.

Salmon Technical Team 8 a.m.

Enforcement Consultants As Necessary

Day 4—Friday, March 11, 2022

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Salmon Advisory Subpanel 8 a.m.

Salmon Technical Team 8 a.m.

Enforcement Consultants As Necessary

Day 5—Saturday, March 12, 2022

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Salmon Advisory Subpanel 8 a.m.

Salmon Technical Team 8 a.m.

Enforcement Consultants As Necessary

Day 6—Sunday, March 13, 2022

California State Delegation 7 a.m.

Oregon State Delegation 7 a.m.

Washington State Delegation 7 a.m.

Salmon Advisory Subpanel 8 a.m.

Salmon Technical Team 8 a.m.

Enforcement Consultants As Necessary

Day 7— Monday, March 14, 2022

California State Delegation 7 a.m.

Oregon State Delegation 7 a.m.

Washington State Delegation 7 a.m.

Salmon Technical Team 8 a.m.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: February 14, 2022.
Tracey L. Thompson,
Acting Deputy Director, Office of Sustainable Fisheries, National Marine Fisheries Service.

[FR Doc. 2022-03492 Filed 2-17-22; 8:45 am]

BILLING CODE 3510-22-P